DEPARTMENT OF COMMERCE

National Oceanic and Atmospheric Administration

50 CFR Part 300

[I.D. 110801F]

Fraser River Sockeye and Pink Salmon Fisheries; 2001 Inseason Orders

AGENCY: National Marine Fisheries Service (NMFS), National Oceanic and Atmospheric Administration (NOAA), Commerce.

ACTION: Inseason orders.

SUMMARY: NMFS publishes the Fraser River salmon inseason orders regulating salmon fisheries in U.S. waters. The orders were issued by the Fraser River Panel (Panel) of the Pacific Salmon Commission (Commission) and subsequently approved and issued by NMFS during the 2001 sockeye and pink salmon fisheries within the U.S. Fraser River Panel Area. These orders established fishing times, areas, and types of gear for U.S. treaty Indian and all-citizen fisheries during the period the Commission exercised jurisdiction over these fisheries. Due to the frequency with which inseason orders are issued, publication of individual orders is impracticable. The 2001 orders are, therefore, being published in this document to avoid fragmentation.

DATES: Each of the following inseason actions was effective upon announcement on telephone hotline numbers as specified at 50 CFR 300.97(b)(1); those dates and times are listed herein. Comments will be accepted through December 12, 2001.

ADDRESSES: Mail comments to D. Robert Lohn, Regional Administrator, Northwest Region, NMFS, 7600 Sand Point Way N.E., BIN C15700-Bldg. 1, Seattle, WA 98115-0070. Information relevant to this document is available for public review during business hours at the office of the Regional Administrator, Northwest Region, NMFS.

FOR FURTHER INFORMATION CONTACT: David Cantillon, 206-526-4140.

SUPPLEMENTARY INFORMATION: The treaty between the Government of the United States of America and the Government of Canada Concerning Pacific Salmon was signed at Ottawa on January 28, 1985, and subsequently was given effect in the United States by the Pacific Salmon Treaty Act (Act) at 16 U.S.C. 3631 et seq.

Under authority of the Act, Federal regulations at 50 CFR part 300 subpart F provide a framework for implementation of certain regulations of the Commission and inseason orders of the Commission's Panel for U.S. sockeye and pink salmon fisheries in the Fraser River Panel Area.

The regulations close the Fraser River Panel Area (U.S.) to U.S. sockeye and pink salmon fishing unless opened by Panel regulation or by inseason regulations published by NMFS that give effect to Panel orders. During the fishing season, NMFS may issue regulations that establish fishing times and areas consistent with the Commission agreements and inseason orders of the Panel. Such orders must be consistent with domestic legal obligations. The Regional Administrator, Northwest Region, NMFS, issues the inseason orders. Official notification of these inseason actions of NMFS is provided by two telephone hotline numbers described at 50 CFR 300.97(b)(1). Inseason orders must be published in the Federal Register as soon as practicable after they are issued. Due to the frequency with which inseason orders are issued, publication of individual orders is impractical. Therefore, the 2001 orders are being published in this document to avoid fragmentation.

The following inseason orders were adopted by the Panel and issued for U.S. fisheries by NMFS during the 2001 fishing season. The times listed are local times, and the areas designated are Puget Sound Management and Catch Reporting Areas as defined in the Washington State Administrative Code at Chapter 220-22.

Order No. 01-01: Issued 3 p.m., July 24, 2001.

Treaty Indian Fisheries

Areas 4B, 5 and 6C: Open for drift gillnets from 12 p.m. (noon) Wednesday, July 25 until 12 p.m. (noon) Saturday, July 28, 2001.

Order No. 01-02: Issued 3 p.m., July 27, 2001.

Treaty Indian Fisheries

Areas 4B, 5 and 6C: Extended for drift gillnets from 12 p.m. (noon) Saturday, July 28 until 12 p.m. (noon) Tuesday, July 31, 2001.

Order No. 01-03: Issued 3 p.m., July 30, 2001.

Treaty Indian Fisheries

Areas 4B, 5 and 6C: Extended for drift gillnets from 12 p.m. (noon) Tuesday, July 31, 2001, until 6 a.m Wednesday, August 1, 2001.

Areas 6, 7 and 7A: Open to net fishing from 4 a.m. Tuesday, July 31, 2001, until 6 a.m. Wednesday August 1, 2001.

All-Citizen Fisheries

Areas 7, and 7A Purse Seine: Open from 6 a.m. until 9 p.m. Wednesday, August 1, 2001.

Areas 7 and 7A Gillnet: Open from 8 a.m. until 11:59 p.m. Wednesday, August 1, 2001.

Areas 7 and 7A Reef Net: Open from 5 a.m. until 9 p.m. Thursday, August 2, 2001.

Order No. 01-04: Issued 3 p.m., August 3, 2001.

Treaty Indian Fisheries

Areas 4B, 5 and 6C: Opened for drift gillnets from 6 p.m. Friday, August 3, 2001, until 6 p.m Saturday, August 4, 2001.

Areas 6, 7 and 7A: Remain closed to fishing.

All-Citizen Fisheries

Areas 7, and 7A Purse Seine: Remain closed to fishing.

Areas 7 and 7A Gillnet: Remain closed to fishing.

Areas 7 and 7A Reef Net: Open from 5 a.m. until 9 p.m. Sunday, August 5, 2001.

Order No. 01-05: Issued 5 p.m., August 17, 2001.

Treaty Indian Fisheries

Areas 4B, 5, 6C, 6, 7 and 7A: Remain closed to fishing.

All-Citizen Fisheries

Areas 7, and 7A Purse Seine: Remain closed to fishing.

Areas 7 and 7A Gillnet: Remain closed to fishing.

Areas 7 and 7A Reef Net: Open from 5 a.m. until 9 p.m. Saturday, August 18, 2001, and from 5 a.m. until 9 p.m. Monday, August 20, 2001.

Order No. 01-06: Issued 1 p.m., August 19, 2001.

Treaty Indian Fisheries

Areas 4B, 5, 6C, 6, 7 and 7A: Remain closed to fishing.

All-Citizen Fisheries

Areas 7, and 7A Purse Seine: Remain closed to fishing.

Areas 7 and 7A Gillnet: Remain closed to fishing.

Areas 7 and 7A Reef Net: Remain closed to fishing.

Inseason Order No. 01-06 supersedes all previous inseason orders implementing 2001 orders of the Fraser River Panel.

Order No. 01-07: Issued 4:30 p.m., August 31, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Tuesday, September 4, 2001. The retention of sockeye salmon is prohibited.

Areas 6, 7 and 7A Gillnets: Remain closed to fishing.

All-Citizen Fisheries

Areas 7, and 7A Purse Seine: South and east of a line from Iwersen’s Dock on Point Roberts to Georgina Point Light at the entrance to Active Pass in British Columbia, open for the taking of pink salmon from 5 a.m. until 9 p.m. Wednesday, September 5, 2001. The retention of sockeye salmon is prohibited.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Saturday, September 1, 2001; from 5 a.m. until 9 p.m. Sunday, September 2, 2001; from 5 a.m. until 9 p.m. Monday, September 3, 2001; from 5 a.m. until 9 p.m. Tuesday, September 4, 2001; and from 5 a.m. until 9 p.m. Wednesday, September 5, 2001. The retention of sockeye salmon is prohibited.

Order No. 01-08: Issued 4:30 p.m., September 5, 2001.

Treaty Indian Fisheries

Areas 4B, 5, and 6C: Remain closed to fishing.

Areas 7 and 7A Purse Seine: Remain closed to fishing.

Areas 6, 7 and 7A Gillnets: Remain closed to fishing.

All-Citizen Fisheries

Areas 7, and 7A Purse Seine: South and east of a line from Iwersen’s Dock on Point Roberts to Georgina Point Light at the entrance to Active Pass in British Columbia, open for the taking of pink salmon from 5 a.m. until 9 p.m. Wednesday, September 5, 2001. The retention of sockeye salmon is prohibited.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Wednesday, September 5, 2001; from 5 a.m. until 9 p.m. Thursday, September 6, 2001; from 5 a.m. until 9 p.m. Friday, September 7, 2001; and from 5 a.m. until 9 p.m. Saturday, September 8, 2001. The retention of sockeye salmon is prohibited.

Inseason Order No. 01-08 supersedes all previous inseason orders implementing 2001 orders of the Fraser River Panel.

Order No. 01-09: Issued 3:30 p.m., September 7, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Sunday, September 9, 2001. The retention of sockeye salmon is prohibited.

Areas 6, 7 and 7A Gillnets: Remain closed to fishing.

All-Citizen Fisheries

Areas 7, and 7A Purse Seine: South and east of a line from Iwersen’s Dock on Point Roberts to Georgina Point Light at the entrance to Active Pass in British Columbia, open for the taking of pink salmon from 5 a.m. until 9 p.m. Monday, September 10, 2001. The retention of sockeye salmon is prohibited.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Friday, September 7, 2001; from 5 a.m. until 9 p.m. Saturday, September 8, 2001; from 5 a.m. until 9 p.m. Sunday, September 9, 2001; from 5 a.m. until 9 p.m. Monday, September 10, 2001; and from 5 a.m. until 9 p.m. Tuesday, September 11, 2001. The retention of sockeye salmon is prohibited.

Inseason Order No. 01-09 supersedes all previous inseason orders implementing 2001 orders of the Fraser River Panel.

Order No. 01-10: Issued 3:30 p.m., September 11, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Thursday, September 13, 2001. The retention of sockeye salmon is prohibited.

Areas 6, 7 and 7A Gillnets: Remain closed to fishing.

All-Citizen Fisheries

Areas 7, and 7A Purse Seine: South and east of a line from Iwersen’s Dock on Point Roberts to Georgina Point Light at the entrance to Active Pass in British Columbia, open for the taking of pink salmon from 5 a.m. until 9 p.m. Thursday, September 13, 2001. The retention of sockeye salmon is prohibited.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Tuesday, September 11, 2001; from 5 a.m. until 9 p.m. Wednesday, September 12, 2001; from 5 a.m. until 9 p.m. Thursday, September 13, 2001; from 5 a.m. until 9 p.m. Friday, September 14, 2001; from 5 a.m. until 9 p.m. Saturday, September 15, 2001; from 5 a.m. until 9 p.m. Sunday, September 16, 2001; and from 5 a.m. until 9 p.m. Monday, September 17, 2001. The retention of sockeye salmon is prohibited.

Inseason Order No. 01-10 supersedes all previous inseason orders implementing 2001 orders of the Fraser River Panel.

Order No. 01-11: Issued 4:30 p.m., September 13, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Thursday, September 13, 2001, and from 5 a.m. until 9 p.m. Friday, September 14, 2001. The retention of sockeye salmon is prohibited.

Areas 6, 7 and 7A Gillnets: Remain closed to fishing.

All-Citizen Fisheries

Areas 7 and 7A Purse Seine: South and east of a line from Iwersen’s Dock on Point Roberts to Georgina Point Light at the entrance to Active Pass in British Columbia, open for the taking of pink salmon from 5 a.m. until 9 p.m. Thursday, September 13, 2001, and from 5 a.m. until 9 p.m. Friday, September 14, 2001. The retention of sockeye salmon is prohibited.

Areas 7 and 7A Gillnet: Remain closed to fishing

Areas 7 and 7A Reef Net: South and east of a line from Iwersen’s Dock on Point Roberts to Georgina Point Light at the entrance to Active Pass in British Columbia, open for the taking of pink salmon from 5 a.m. until 9 p.m. Thursday, September 13, 2001; from 5 a.m. until 9 p.m. Friday, September 14, 2001; from 5 a.m. until 9 p.m. Saturday, September 15, 2001; from 5 a.m. until 9 p.m. Sunday, September 16, 2001; and from 5 a.m. until 9 p.m. Monday, September 17, 2001. The retention of sockeye salmon is prohibited.

Inseason Order No. 01-11 supersedes all previous inseason orders implementing 2001 orders of the Fraser River Panel.

Order No. 01-12: Issued 4:30 p.m., September 17, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Wednesday, September 19, 2001. The retention of sockeye salmon is prohibited.

Areas 6, 7 and 7A Gillnets: Remain closed to fishing.

All-Citizen Fisheries

Areas 7 and 7A Purse Seine: Remain closed to fishing.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Monday, September 17, 2001; from 5 a.m. until 9 p.m. Tuesday, September 18, 2001; from 5 a.m. until 9 p.m. Wednesday, September 19, 2001; from 5 a.m. until 9 p.m. Thursday, September 20, 2001; from 5 a.m. until 9 p.m. Friday, September 21, 2001; and from 5 a.m. until 9 p.m. Saturday, September 22, 2001. The retention of sockeye salmon is prohibited.

Inseason Order No. 01-12 supersedes all previous inseason orders implementing 2001 orders of the Fraser River Panel.

Order No. 01-13: Issued 1 p.m., September 18, 2001.

Treaty Indian Fisheries

Areas 4B, 5, and 6C: Remain closed to fishing.

Areas 7 and 7A Purse Seine: South and east of a line from Iwersen’s Dock on Point Roberts to Georgina Point Light at the entrance to Active Pass in British Columbia, open for the taking of pink salmon from 5 a.m. until 9 p.m. Wednesday, September 19, 2001. The retention of sockeye salmon is prohibited.

Areas 6, 7 and 7A Gillnets: Remain closed to fishing.

All-Citizen Fisheries

Areas 7 and 7A Purse Seine: South and east of a line from Iwersen’s Dock on Point Roberts to Georgina Point Light at the entrance to Active Pass in British Columbia, open for the taking of pink salmon from 5 a.m. until 9 p.m. Wednesday, September 19, 2001. The retention of sockeye salmon is prohibited.

Areas 7 and 7A Gillnet: Remain closed to fishing.

Areas 7 and 7A Reef Net: South and east of a line from Iwersen’s Dock on Point Roberts to Georgina Point Light at the entrance to Active Pass in British Columbia, open for the taking of pink salmon from 5 a.m. until 9 p.m. Tuesday, September 18, 2001; from 5 a.m. until 9 p.m. Wednesday, September 19, 2001; from 5 a.m. until 9 p.m. Thursday, September 20, 2001; from 5 a.m. until 9 p.m. Friday, September 21, 2001; and from 5 a.m. until 9 p.m. Saturday, September 22, 2001. The retention of sockeye salmon is prohibited.

Inseason Order No. 01-13 supersedes all previous inseason orders implementing 2001 orders of the Fraser River Panel.

Classification

Because these fisheries have been closed, NMFS has determined that good cause exists for this notification to be issued without affording a prior opportunity for public comment because such notification would be unnecessary, impracticable, and contrary to the public interest.

This action is authorized by 50 CFR 300.97, and is exempt from review under Executive Order 12866.

Authority: 16 U.S.C. 3636(b).

Dated: November 20, 2001.
Jon Kurland,
Acting Director, Office of Sustainable Fisheries, National Marine Fisheries Service.

[FR Doc. 01-29495 Filed 11-26-01; 8:45 am]

BILLING CODE 3510-22-S